DEPARTMENT OF COMMERCE

National Oceanic and Atmospheric Administration

[RTID 0648-XA786]

Marine Mammals; File No. 25417

AGENCY: National Marine Fisheries Service (NMFS), National Oceanic and Atmospheric Administration (NOAA), Commerce.

ACTION: Notice; receipt of application.

SUMMARY: Notice is hereby given that Ed Charles, Silverback Films, 1 St. Augustine's Yard, Gaunts Lane, Bristol, BS1 5DE, United Kingdom, has applied in due form for a permit to conduct commercial or educational photography on marine mammals.

DATES: Written, telefaxed, or email comments must be received on or before February 8, 2021.

ADDRESSES: These documents are available upon written request via email to NMFS.Pr1Comments@noaa.gov.

Written comments on this application should be submitted via email to NMFS.Pr1Comments@noaa.gov. Please include File No. 25417 in the subject line of the email comment.

Those individuals requesting a public hearing should submit a written request via email to NMFS.Pr1Comments@noaa.gov. The request should set forth the specific reasons why a hearing on this application would be appropriate.

FOR FURTHER INFORMATION CONTACT: Jordan Rutland or Shasta McClenahan, (301) 427-8401.

SUPPLEMENTARY INFORMATION: The subject permit is requested under the authority of the Marine Mammal Protection Act of 1972, as amended (MMPA; 16 U.S.C. 1361 et seq.), the regulations governing the taking of marine mammals (50 CFR part 216), and the Fur Seal Act of 1966, as amended (16 U.S.C. 1151 et seq.).

The applicant proposes to film marine mammals in California to obtain footage for a Netflix documentary series on the migration of gray whales (Eschrichtius robustus). Up to 600 gray whales, 672 killer whales (Orcinus orca), 200 harbor seals (Phoca vitulina), 1,000 California sea lions (Zalophus californianus), 1,000 Pacific white-sided dolphins (Lagenorhynchus obliquidens), 2,000 common bottlenose dolphins (Tursiops truncatus), 10 northern fur seals (Callorhinus ursinus), 150 Dall's porpoises (Phocoenoides dalli), 2,000 short-beaked common dolphins (Delphinus delphis), 1,000 long-beaked common dolphins (D. capensis), 1,000 northern right whale dolphins (Lissodelphis borealis), 1,000 Risso's dolphins (Grampus griseus), and 30 Steller sea lions (Eumetopias jubatus; Eastern distinct population segment) may be filmed annually from vessels, unmanned aircraft systems, or underwater divers. The permit would expire on May 20, 2022.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 5, 2021.
Julia Marie Harrison,
Chief, Permits and Conservation Division, Office of Protected Resources, National Marine Fisheries Service.

[FR Doc. 2021-00177 Filed 1-7-21; 8:45 am]

BILLING CODE 3510-22-P